DEPARTMENT OF DEFENSE

Office of the Secretary

Defense Business Board; Notice of Federal Advisory Committee Meeting

AGENCY: Office of the Deputy Secretary of Defense, Department of Defense (DoD).

ACTION: Notice of Federal Advisory Committee meeting.

SUMMARY: The DoD is publishing this notice to announce the following Federal Advisory Committee meeting of the Defense Business Board (“the Board”) will take place.

DATES: Open to the public Friday, March 17, 2023, from 11 a.m. to 1 p.m. All Eastern time.

ADDRESSES: The meeting will be conducted by teleconference only. To participate in the meeting, see the Meeting Accessibility section for instructions.

FOR FURTHER INFORMATION CONTACT: Ms. Jennifer Hill, Designated Federal Officer (DFO) of the Board in writing at Defense Business Board, 1155 Defense Pentagon, Room 5B1088A, Washington, DC 20301-1155; or by email at jennifer.s.hill4.civ@mail.mil; or by phone at 571-342-0070.

SUPPLEMENTARY INFORMATION: This meeting is being held under the provisions of the Federal Advisory Committee Act (FACA) (5 U.S.C. Appendix), the Government in the Sunshine Act (5 U.S.C. 552b), and 41 CFR 102-3.140 and 102-3.150.

Purpose of the Meeting: The mission of the Board is to examine and advise the Secretary of Defense on overall DoD management and governance. The Board provides independent, strategic-level, private-sector, and academic advice and counsel on enterprise-wide business management approaches and best practices for business operations and achieving National Defense goals.

Agenda: The Board meeting will begin March 17, 2023, at 11 a.m. The DFO, Ms. Jennifer Hill will open the session, followed by a welcome to members and guests by the Board Chair, Hon. Deborah James. The Chair of the Talent Management, Culture & Diversity Subcommittee, Ms. Jennifer McClure, will then present the Building a Civilian Talent Pipeline Study. Once the study is presented, the Board Chair will ask the Board to deliberate on the study and ask for public comments. Next, the Board Chair will call for a vote to approve the study. Once the vote is complete, the Board Chair will provide closing remarks and the DFO will adjourn the open session. The latest version of the agenda will be available on the Board's website at: https://dbb.defense.gov/Meetings/Meeting-February-2023/.

Meeting Accessibility: Pursuant to section 10(a)(1) of the FACA and 41 CFR 102-3.140, the March 17 meeting is open to the public via teleconference. Persons desiring to attend the public session are required to register. To attend the public session, submit your name, affiliation/organization, telephone number, and email contact information to the Board at osd.pentagon.odam.mbx.defense-business-board@mail.mil. Requests to attend the public session must be received no later than 4:00 p.m. on Wednesday, March 15, 2023. Upon receipt of this information, the Board will provide further instructions for attending the meeting.

Written Comments and Statements: Pursuant to 41 CFR 102-3.105(j) and 102-3.140 and section 10(a)(3) of the FACA, the public or interested organizations may submit written comments or statements to the Board in response to the stated agenda of the meeting or regarding the Board's mission in general. Written comments or statements should be submitted to Ms. Jennifer Hill, the DFO, via electronic mail (the preferred mode of submission) at the address listed in the FOR FURTHER INFORMATION CONTACT section. Each page of the comment or statement must include the author's name, title or affiliation, address, and daytime phone number. The DFO must receive written comments or statements submitted in response to the agenda outlined in this notice by Wednesday, March 15, 2023, to be considered by the Board.

The DFO will review all timely submitted written comments or statements with the Board Chair and will ensure the comments are provided to all members of the Board before the meeting. Written comments or statements received after this date may not be provided to the Board until its next scheduled meeting. Please note that all submitted comments and statements will be treated as public documents and will be made available for public inspection, including, but not limited to, being posted on the Board's website.

Dated: February 23, 2023.
Aaron T. Siegel,
Alternate OSD Federal Register Liaison Officer, Department of Defense.

[FR Doc. 2023-04135 Filed 2-28-23; 8:45 am]

BILLING CODE 5001-06-P